DEPARTMENT OF HEALTH AND HUMAN SERVICES

Centers for Disease Control and Prevention

[30Day-07-04]

Proposed Data Collections Submitted for Public Comment and Recommendations

The Centers for Disease Control and Prevention (CDC) publishes a list of information collection requests under review by the Office of Management and Budget (OMB) in compliance with the Paperwork Reduction Act (44 U.S.C. chapter 35). To request a copy of these requests, call the CDC Reports Clearance Officer at (404) 498-1210. Send written comments to CDC, Desk Officer, Human Resources and Housing Branch, New Executive Office Building, Room 10235, Washington, DC 20503, or by fax to (202) 395-6974. Written comments should be received within 30 days of this notice.

Proposed Project: National Youth Tobacco Survey—New—National Center for Chronic Disease Prevention and Health Promotion (NCCDPHP), Centers for Disease Control and Prevention (CDC). The proposed project is the 2004 national school-based National Youth Tobacco Survey. The purpose of this request is to obtain OMB approval to continue a biennial survey among junior and senior high school students attending regular public, private, and Catholic schools in grades 6-12. This survey was previously funded by the American Legacy Foundation in 1999, 2000, and 2002. The survey covers the following tobacco-related topics: prevalence of use (cigarettes, smokeless tobacco, cigars, pipe, bidis, and kreteks), knowledge and attitudes, media and advertising, minors' access and enforcement, school curriculum, environmental tobacco smoke exposure, and cessation. Tobacco use, a major preventable cause of morbidity and mortality in the U.S., is one of the 28 focus areas in Healthy People 2010. In the Healthy People 2010 focus area of tobacco use, the National Youth Tobacco Survey provides data relevant to six health objectives. The survey also provides data to monitor one of the 10 Leading Health Indicators for Healthy People 2010 that addresses tobacco use. In addition, the National Youth Tobacco Survey can identify racial and ethnic disparities in tobacco-related topics listed above. The National Youth Tobacco Survey is the most comprehensive source of nationally representative data regarding high school students and tobacco. Moreover, the National Youth Tobacco Survey is the only source of such national data for middle school students (grades 6-8). The data have significant implications for policy and program development for school health programs nationwide.

To provide contextual data, in each participating school, the principal or another designated administrator will be asked to complete a questionnaire on the school's tobacco-related policies. The annualized burden for this data collection is 18,663 hours.

Respondents | No. of respondents | No. of responses per respondent | Average burden per responses (in hours)
Students | 24,500 | 1 | 45/60
School Administrator | 516 | 1 | 30/60

Dated: November 17, 2003.
Laura Yerdon Martin,
Acting Director, Executive Secretariat, Centers for Disease Control and Prevention.

[FR Doc. 03-29216 Filed 11-21-03; 8:45 am]

BILLING CODE 4163-18-P